DEPARTMENT OF TRANSPORTATION

Federal Aviation Administration

[Docket No. FAA-2002-12426]

Draft Advisory Circular 93-1, Reservations for Unscheduled Flights at High Density Traffic Airports; Correction

AGENCY: Federal Aviation Administration (FAA), DOT.

ACTION: Notice of draft advisory circular and request for comments; correction.

SUMMARY: This document contains a correction to the notice, published in the Federal Register on June 3, 2002 (67 FR 38305). That notice requests comments on Advisory Circular, “Reservations for Unscheduled Flights at High Density Traffic Airports.” That advisory circular would harmonize and clarify procedures currently in the Aeronautical Information Manual and the Aeronautical Information Publication, update methods of obtaining reservations to include a new web-based application, discontinue use of telephone modem access, provide for an increase in the number of hours in advance of operation that reservations may be made, and reflect recent statutory changes affecting operations at Chicago O'Hare International Airport.

FOR FURTHER INFORMATION CONTACT: Diane Crean, (202) 267-3538.

Correction of Publication

In the notice FR Doc. 02-13820, beginning on page 38305 in the Federal Register issue of June 3, 2002, make the following corrections:

1. On page 38305, in column 1, in the heading section, beginning on line 4, include the docket number to read, “[Docket No. FAA-2002-12426”.

2. On page 38305, in column 1, in the ADDRESSES section, beginning on line 4, correct “Docket No. FAA-2002-XXXX” to read “Docket No. FAA-2002-12426”.

3. On page 38305, in column 2, in the Comments Invited section, beginning on line 17, correct “Comments to Docket No. FAA-2002-xxxx” to read “Comments to Docket No. FAA-2002-12426”.

Issued in Washington, DC on June 4, 2002.
Donald P. Byrne,
Assistant Chief Counsel, Regulations Division.

[FR Doc. 02-14691 Filed 6-11-02; 8:45 am]

BILLING CODE 4910-13-M